DEPARTMENT OF DEFENSE

Department of the Army

Notice of Intent To Prepare a Legislative Environmental Impact Statement (LEIS) for the Withdrawal of Lands at the Limestone Hills Training Area (LHTA), Near Townsend, MT

AGENCY: Department of the Army, DoD.

ACTION: Notice of intent.

SUMMARY: The Department of the Army announces its intent to prepare an LEIS pursuant to Section 102(2)(c) of the National Environmental Policy Act of 1969, as implemented by Council on Environmental Quality regulations (40 CFR 1500-1508). The LEIS will analyze both the proposed withdrawal of lands supporting training exercises for the Montana Army National Guard (MTARNG) and the associated Bureau of Land Management (BLM) Headwaters Resource Management Plan Amendment. The BLM is participating as an active cooperation agency in the preparation of the LEIS.

ADDRESSES: Written comments or questions should be forwarded by mail to Ms. Sundi West, Montana Army National Guard Fort Harrison, P.O. Box 4789, Helena, MT 59604-4789; via telephone at (406) 324-3088, or via email at Sundi.West@mt.ngb.army.mil.

FOR FURTHER INFORMATION CONTACT: Ms. Susie Williams, U.S. Bureau of Land Management, 106 North Parkmont, Butte, MT 59701, via phone at (406) 533-7638, or via email at Elizabeth_Williams@blm.gov.

SUPPLEMENTARY INFORMATION: The objective of the LEIS is to provide the results of comprehensive analysis to the Secretary of Interior and the Department of the Army to develop findings and recommendations to Congress regarding the proposed land withdrawal, and to serve as a public information source. The study area for the environmental analysis will be resource-dependent and is likely to include all of Lewis and Clark County and Broadwater County for socio-economic resources, all MTARNG facilities for military mission, and the LHTA for biological and mineral resources.

The LEIS will analyze potential environmental effects of the proposed action and alternatives including a no action alternative. Under the no action alternative, the current right-of-way grant from the BLM for use of the LHTA by the MTARNG would not be renewed in 2014 for continued military purposes. Other alternatives may consist of alternatives-shared management roles of the LHTA for the MTARNG and the BLM, alternative land use options, and alternative locations. The alternatives will be developed during preparation of the Draft LEIS as a result of public input.

Significant Issues: The LHTA is a 23,100-acre parcel of land with private and state-owned in-holdings totaling approximately 2,640 acres. BLM manages 20,460 acres of the total acreage and allows the MTARNG to conduct military training on its property through a right-of-way agreement that is set to expire in 2014. The public land is also used for gazing, mining, recreation, transportation utility right-of-ways, and wildlife management. A limestone mine is currently operating within the LHTA and every federally-managed acre of the LHTA falls within one of seven grazing allotments. In addition, the MTARNG is currently engaged in clearing unexploded ordnance from a range on the LHTA that is no longer in use.

Significant issues the LEIS will analyze include the following and as well as any additional issues raised during scoping: (1) Continued ability of Graymont Western's Indian Creek Limestone Mine to extract and process ore within the LHTA; (2) allocation and management of grazing allotments; (3) public access to the LHTA; (4) noise and dust generated during training exercises and vehicular traffic; (5) impacts to Broadwater County due to possible termination of payments in lieu of taxes by the BLM if the withdrawal is granted; (6) potential impacts to wildlife in the Elkhorn Management Area; (7) consistency of land management policy and implementation; (8) potential impacts to range management and cleanup activities; (9) owner access to, and use of, inholdings; and (10) impacts to local economies and MTARNG training facilities under the no action alternative.

The Department of the Army, through the MTARNG, is initiating a public scoping process for the purpose of determining public concerns and issues to be analyzed and addressed for this action. A public scoping meeting will be held at the Broadwater School Community Library, 201 North Spruce, Townsend, Montana, and at the Chamber of Commerce of Helena; 225 Cruse Avenue, Helena, Montana. A Public open house will occur at each site from 3:00 p.m. to 5:30 p.m. prior to each scoping meeting. The dates and times of these meetings will be announced in general public media.

A brief presentation will precede a request for public information and comments. MTARNG and BLM representatives will be available at these meetings to receive information and comments from agencies and the public regarding issues of concern. It is important that federal, state and local agencies, and interested individuals take this opportunity to provide information or identify environmental concerns that should be addressed during the analysis and preparation of the LEIS. Forms for written comments will also be available to submit written comments at these meetings.

Agencies and the public are also invited and encouraged to provide written comments in addition to, or in lieu of, oral comments at the public scoping meetings. To be most helpful, scoping comments should clearly describe specific information, data, issues or topics which the commenter believes the LEIS should address. To be considered in the LEIS, comments and suggestions should be received no later than 60 days following the public scooping meeting.

Dated: August 27, 2003.
Richard E. Newsome,
Acting Deputy Assistant Secretary of the Army (Environmental, Safety and Occupational Health), OASA (I&E).

[FR Doc. 03-22474 Filed 9-3-03; 8:45 am]

BILLING CODE 3710-08-M